DEPARTMENT OF COMMERCE

International Trade Administration

[A-484-803]

Large Diameter Welded Pipe From Greece: Final Results of Antidumping Duty Administrative Review; 2019-2020

AGENCY: Enforcement and Compliance, International Trade Administration, Department of Commerce.

SUMMARY: The Department of Commerce (Commerce) determines that the producer/exporter subject to this administrative review made sales of subject merchandise at less than normal value during the period of review (POR), April 19, 2019, through April 30, 2020.

DATES: Applicable February 8, 2022.

FOR FURTHER INFORMATION CONTACT: Paul Litwin, AD/CVD Operations, Office II, Enforcement and Compliance, International Trade Administration, U.S. Department of Commerce, 1401 Constitution Avenue NW, Washington, DC 20230; telephone: (202) 482-6002.

SUPPLEMENTARY INFORMATION:

Background

This review covers one producer and exporter of the subject merchandise, Corinth Pipeworks Pipe Industry S.A. (Corinth). On August 6, 2021, Commerce published the Preliminary Results.¹ In September 2021, we received case and rebuttal briefs from the petitioners ² and Corinth.³ On October 26, 2021, we held a public hearing to discuss interested parties' comments.⁴ For a description of the events that occurred since the Preliminary Results, see the Issues and Decision Memorandum.⁵ On November 19, 2021, Commerce extended the final results of this review by 60 days, until February 2, 2022.⁶

¹ See Large Diameter Welded Pipe from Greece: Preliminary Results of Antidumping Duty Administrative Review; 2019-2020, 86 FR 43172 (August 6, 2021) (Preliminary Results).

² The petitioners are American Cast Iron Pipe Company, Berg Steel Pipe Corp., Berg Spiral Pipe Corp., Dura-Bond Industries, JS W Steel (USA) Inc., Stupp Corporation, Welspun Global Trade LLC, individually and as members of the American Line Pipe Producers Association; Greens Bayou Pipe Mill, LP; Skyline Steel; and Trinity Products LLC (collectively, the petitioners).

³ See Petitioners' Letter, “Case Brief,” dated September 14, 2021; see also Corinth's Letter, “Case Brief on behalf of Corinth Pipeworks and Corinth America,” dated September 14, 2021; Petitioners' Letter, “Rebuttal Brief,” dated September 28, 2021; and Corinth's Letter, “Rebuttal Brief on Behalf of Corinth Pipeworks and Corinth America,” dated September 28, 2021.

⁴ See Memorandum, “2019-2020 Administrative Review of Large Diameter Welded Pipe from Greece: Scheduling of Public Hearing,” dated October 26, 2021.

⁵ See Memorandum, “Decision Memorandum for the Final Results of the 2019-2020 Administrative Review of the Antidumping Duty Order on Large Diameter Welded Carbon and Alloy Steel Line Pipe from Greece,” dated concurrently with, and hereby adopted by, this notice (Issues and Decision Memorandum).

⁶ See Memorandum, “Extension of Deadline for Final Results of 2019-2020 Antidumping Duty Administrative Review,” dated November 19, 2021.

Commerce conducted this administrative review in accordance with section 751 of the Tariff Act of 1930, as amended (the Act).

Scope of the Order

The merchandise covered by this order is welded carbon and alloy steel line pipe (other than stainless steel pipe), more than 406.4 mm (16 inches) in nominal outside diameter (large diameter welded line pipe), regardless of wall thickness, length, surface finish, grade, end finish, or stenciling. Large diameter welded pipe may be used to transport oil, gas, slurry, steam, or other fluids, liquids, or gases.

The large diameter welded line pipe that is subject to this order is currently classifiable in the Harmonized Tariff Schedule of the United States (HTSUS) under subheadings 7305.11.1030, 7305.11.1060, 7305.11.5000, 7305.12.1030, 7305.12.1060, 7305.12.5000, 7305.19.1030, 7305.19.1060, and 7305.19.5000. Merchandise currently classifiable under subheadings 7305.31.4000, 7305.31.6090, 7305.39.1000 and 7305.39.5000 and that otherwise meets the above scope language is also covered. While the HTSUS subheadings are provided for convenience and customs purposes, the written description of the scope of this order is dispositive.⁷

⁷ On June 22, 2020, Commerce published a notice in the Federal Register revoking the order, in part, with respect to certain welded pipe products with specific combinations of grades, diameters, and wall thicknesses in response to a changed circumstances review request. This change in the scope was effective as of June 22, 2020, and, thus, not applicable to this review. See Large Diameter Welded Pipe from Greece: Final Results of Antidumping Duty Changed Circumstances Reviews, 85 FR 37424 (June 22, 2020). For a full description of the scope of the order, see Issues and Decision Memorandum.

Analysis of Comments Received

All issues raised in the case and rebuttal briefs are listed in the appendix to this notice and addressed in the Issues and Decision Memorandum.⁸ Interested parties can find a complete discussion of these issues and the corresponding recommendations in this public memorandum, which is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁸ See Issues and Decision Memorandum.

Changes Since the Preliminary Results

Based on a review of the record and comments received from interested parties regarding our Preliminary Results, we find it appropriate to apply a dumping margin based on total adverse facts available (AFA) to Corinth, in accordance with sections 776(a) and (b) of the Act.⁹ For further discussion, see the Issues and Decision Memorandum.

⁹ Id.

Final Results of the Review

We are assigning the following weighted-average dumping margin to the firm listed below for the period April 19, 2019, through April 30, 2020:

Producers/exporters | Weighted-average dumping margin (percent)
Corinth Pipeworks Pipe Industry S.A | 41.04

Disclosure

Normally, Commerce discloses to interested parties the calculations performed in connection with a final determination within five days of any public announcement or, if there is no public announcement, within five days of the date of publication of the notice of final determination in the Federal Register, in accordance with 19 CFR 351.224(b). However, because Commerce applied total AFA to the sole mandatory respondent in this review in accordance with section 776 of the Act, and the AFA dumping margin is based solely on the petition, there are no calculations to disclose.

Assessment Rates

Pursuant to section 751(a)(2)(C) of the Act, and 19 CFR 351.212(b)(1), Commerce has determined, and U.S. Customs and Border Protection (CBP) shall assess, antidumping duties on all appropriate entries of subject merchandise in accordance with the final results of this review.

Because we are applying total AFA as to Corinth's entries for this POR, we will instruct CBP to apply an assessment rate to all entries Corinth produced and/or exported equal to the dumping margin indicated above.

Commerce's “automatic assessment” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) The cash deposit rate for Corinth will be the rate shown above; (2) for previously investigated companies not participating in this review, the cash deposit rate will continue to be the company-specific rate published for the most recently completed segment of this proceeding; (3) if the exporter is not a firm covered in this review, or the original less-than-fair-value (LTFV) investigation, but the manufacturer is, the cash deposit rate will be the rate established for the most recent segment for the manufacturer of the merchandise; and (4) the cash deposit rate for all other manufacturers or exporters will continue to be 10.26 percent, the all-others rate made effective by the LTFV investigation.¹⁰ These deposit requirements, when imposed, shall remain in effect until further notice.

¹⁰ See Large Diameter Welded Pipe from Greece: Amended Final Affirmative Antidumping Determination and Antidumping Duty Order, 84 FR 18769 (May 2, 2019).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is being issued and published in accordance with sections 751(a)(1) and 777(i) of the Act, and 19 CFR 351.213.

Dated: February 2, 2022.
Lisa W. Wang,
Assistant Secretary for Enforcement and Compliance.

Appendix

List of Topics Discussed in the Issues and Decision Memorandum

I. Summary

II. Background

III. Scope of the Order

IV. Application of Facts Available and Use of Adverse Inferences

V. Discussion of the Issues

Comment 1: Application of Total Adverse Facts Available (AFA) for Corinth's Failure to Provide an Adequate Cost Reconciliation

Comment 2: Application of Total AFA for Corinth's Failure to Provide Adequate Cost Buildups

Comment 3: Application of Partial AFA to Corinth's Unreconciled Costs

Comment 4: Adjustment of Corinth's Reported Interest Expense Ratio to Account for Certain Excluded Expenses

Comment 5: Inclusion of “Idle” Costs in Corinth's General and Administrative (G&A) Expenses

Comment 6: Application of Partial AFA to Services Provided by Dia.Vi.Pe.Thi.V S.A

Comment 7: Double Counting of Foreign Port Charges on U.S. Sales

Comment 8: Section 232 Duty Deduction from Corinth's Constructed Export Price (CEP)

VI. Recommendation

[FR Doc. 2022-02637 Filed 2-7-22; 8:45 am]

BILLING CODE 3510-DS-P